SECURITIES AND EXCHANGE COMMISSION

Sunshine Act Meetings

TIME AND DATE: Notice is hereby given, pursuant to the provisions of the Government in the Sunshine Act, Public Law 94-409, the Securities and Exchange Commission will hold an Open Meeting on Wednesday, October 23, 2019 at 10:00 a.m.

PLACE: The meeting will be held in Auditorium LL-002 at the Commission's headquarters, 100 F Street NE, Washington, DC 20549.

STATUS: This meeting will begin at 10:00 a.m. (ET) and will be open to the public. Seating will be on a first-come, first-served basis. Visitors will be subject to security checks. The meeting will be webcast on the Commission's website at www.sec.gov.

MATTER TO BE CONSIDERED: The Commission will consider whether to adopt amendments to the Commission's rules implementing its whistleblower program. The proposed amendments are intended to clarify the Commission's discretion, enhance claim processing efficiency, and otherwise address specific issues that have developed during the whistleblower program's eight year history. The Commission will also consider whether to adopt interpretive guidance concerning the terms “unreasonable delay” and “independent analysis” in the Commission's rules implementing its whistleblower program.

CONTACT PERSON FOR MORE INFORMATION: For further information and to ascertain what, if any, matters have been added, deleted or postponed, please contact Vanessa A. Countryman, Office of the Secretary, at (202) 551-5400.

Dated: October 16, 2019.
Vanessa A. Countryman,
Secretary.

[FR Doc. 2019-22961 Filed 10-17-19; 11:15 am]

BILLING CODE 8011-01-P